INTERNATIONAL TRADE COMMISSION

[Investigation No. 332-501]

Textile and Apparel Imports From China: Statistical Reports

AGENCY: United States International Trade Commission.

ACTION: Notice of change in statistical report format and publication frequency.

SUMMARY: Following receipt of a request on October 3, 2019, from the Committee on Ways and Means of the U.S. House of Representatives (Committee) under section 332(g) of the Tariff Act of 1930 (19 U.S.C. 1332(g)), the U.S. International Trade Commission (Commission) has changed the format and publication frequency of the statistical reports it provides under Investigation No. 332-501, Textile and Apparel Imports from China: Statistical Reports. The Commission will discontinue the current biweekly reports and annual compilations and will instead provide quarterly reports.

DATES:

October 23, 2019: Effective date of change in report format and publication frequency.

November 27, 2019: Publication of first quarterly statistical report.

ADDRESSES: All Commission offices, including the Commission's hearing rooms, are located in the United States International Trade Commission Building, 500 E Street SW, Washington, DC. All written submissions should be addressed to the Secretary, United States International Trade Commission, 500 E Street SW, Washington, DC 20436. The public record for this investigation may be viewed on the Commission's electronic docket (EDIS) at https://edis.usitc.gov.

FOR FURTHER INFORMATION CONTACT: Information specific to this investigation may be obtained from Laura Thayn, Project Leader, Office of Analysis and Research Services (202-205-1852 or laura.thayn@usitc.gov). For information on the legal aspects of these investigations, contact William Gearhart of the Commission's Office of the General Counsel (202-205-3091 or william.gearhart@usitc.gov). The media should contact Margaret O'Laughlin, Office of External Relations (202-205-1819 or margaret.olaughlin@usitc.gov). Hearing-impaired individuals may obtain information on this matter by contacting the Commission's TDD terminal at 202-205-1810. General information concerning the Commission may also be obtained by accessing its internet server (https://www.usitc.gov). Persons with mobility impairments who will need special assistance in gaining access to the Commission should contact the Office of the Secretary at 202-205-2000.

Background: In its original request letter received on October 14, 2008, the Committee requested that the Commission provide statistical reports every 2 weeks on the volume, value, unit value, and import market share of certain textile and apparel imports from China, based on preliminary Customs data and final Census data. The Committee asked that the Commission compile these data for each product covered by a Memorandum of Understanding between the United States and China, set to expire December 31, 2008, at both the three-digit textile/apparel category level and at the 10-digit Harmonized Tariff Schedule level for each product within each of the three-digit textile/apparel categories. The Committee also requested that the Commission publish a compilation of monthly Census data on an annual basis. The Committee asked that the Commission continue to provide these reports until such time that the Committee terminates or amends the request. As requested by the Committee, the Commission has published these reports on its website (with any confidential business information deleted).

Notice of the Commission's institution of this investigation was published in the Federal Register of November 5, 2008 (73 FR 65882); it is also posted at https://www.govinfo.gov/content/pkg/FR-2008-11-05/pdf/E8-26362.pdf.

Change in Report Format and Frequency: Through its October 3, 2019 letter, the Committee has now modified its request to ask that the Commission's statistical reports no longer include the preliminary Customs data and that the Commission, in future reports, (1) provide only the updated final Census data, (2) provide these reports on a quarterly basis, and (3) post them on the Commission's website. The Committee also stated that the Commission may discontinue publication of the annual reports because the data in these reports are already included in the statistical reports.

By order of the Commission.
Issued: October 23, 2019.
Lisa Barton,
Secretary to the Commission.

[FR Doc. 2019-23555 Filed 10-28-19; 8:45 am]

BILLING CODE 7020-02-P